DEPARTMENT OF THE INTERIOR

Bureau of Land Management

[OR-936-1430-ET; HAG-06-0012; WAOR-59196]

Public Land Order No. 7651; Withdrawal of Public Land, Hot Lake Natural Area; Washington

AGENCY: Bureau of Land Management, Interior.

ACTION: Public land order.

SUMMARY: This order withdraws 80 acres of public land from location and entry under the United States mining laws for a period of 20 years for the Bureau of Land Management to protect the Hot Lake Natural Area.

DATES: Effective January 11, 2006.

FOR FURTHER INFORMATION CONTACT: William Schurger, Bureau of Land Management, Wenatchee Field Office, 509-665-2116, or Charles R. Roy, Bureau of Land Management Oregon/Washington State Office, 503-808-6189.

SUPPLEMENTARY INFORMATION: The Bureau of Land Management will manage the lands to protect the unique educational, scientific, and research values of the Hot Lake Natural Area.

Order

By virtue of the authority vested in the Secretary of the Interior by Section 204 of the Federal Land Policy and Management Act of 1976, 43 U.S.C. 1714 (2000), it is ordered as follows:

1. Subject to valid existing rights, the following described public land is hereby withdrawn from location and entry under the United States mining laws, (30 U.S.C. Ch. 2 (2000)), for the Bureau of Land Management to protect the unique educational, scientific and research values of the Hot Lake Natural Area:

Willamette Meridian

Hot Lake Natural Area

T. 40 N., R. 27 E.,

Sec. 7, SE¼SE¼;

Sec. 18, NE¼NE¼.

The area described contains 80 acres in Okanogan County.

2. This withdrawal will expire 20 years from the effective date of this order unless, as a result of a review conducted before the expiration date pursuant to Section 204(f) of the Federal Land Policy and Management Act of 1976, 43 U.S.C. 1714(f)(2000), the Secretary determines that the withdrawal shall be extended.

Dated: December 15, 2005.
Craig Manson,
Assistant Secretary of the Interior.

[FR Doc. E6-151 Filed 1-10-06; 8:45 am]

BILLING CODE 4310-33-P